ENVIRONMENTAL PROTECTION AGENCY

40 CFR Part 52

[EPA-R06-OAR-2006-0390; FRL-8244-6]

Approval and Promulgation of Air Quality Implementation Plans; Louisiana; Baton Rouge Ozone Nonattainment Area Vehicle Miles Traveled Offset Analysis

AGENCY: Environmental Protection Agency (EPA).

ACTION: Direct final rule.

SUMMARY: In this direct final action, the EPA is approving the Baton Rouge Ozone Nonattainment Area Vehicle Miles Traveled (VMT) Offset Analysis. The Baton Rouge area became subject to this requirement upon its reclassification from serious to severe 1-hour ozone nonattainment. The State has satisfied the VMT Offset requirement by its demonstration that motor vehicle emissions from increases in VMT or number of vehicle trips within the Baton Rouge five county ozone nonattainment area will not rise above an established ceiling through 2005. This action is being taken under sections 110 and 182 of the Federal Clean Air Act, as amended (the Act).

DATES: This direct final rule is effective on January 22, 2007 without further notice, unless EPA receives relevant adverse comment by December 21, 2006. If EPA receives such comment, EPA will publish a timely withdrawal in the Federal Register informing the public that this rule will not take effect.

ADDRESSES: Submit your comments, identified by Docket ID No. EPA-R06-OAR-2006-0390, by one of the following methods:

• Federal eRulemaking Portal: http://www.regulations.gov. Follow the on-line instructions for submitting comments.

• U.S. EPA Region 6 “Contact Us” Web site: http://epa.gov/region6/r6coment.htm. Please click on “6PD” (Multimedia) and select “Air” before submitting comments.

• E-mail: Mr. Thomas Diggs at diggs.thomas@epa.gov. Please also cc the person listed in the FOR FURTHER INFORMATION CONTACT section below.

• Fax: Mr. Thomas Diggs, Chief, Air Planning Section (6PD-L), at fax number 214-665-7263.

• Mail: Mr. Thomas Diggs, Chief, Air Planning Section (6PD-L), Environmental Protection Agency, 1445 Ross Avenue, Suite 1200, Dallas, Texas 75202-2733.

• Hand or Courier Delivery: Mr. Thomas Diggs, Chief, Air Planning Section (6PD-L), Environmental Protection Agency, 1445 Ross Avenue, Suite 1200, Dallas, Texas 75202-2733. Such deliveries are accepted only between the hours of 8am and 4pm weekdays except for legal holidays. Special arrangements should be made for deliveries of boxed information.

Instructions: Direct your comments to Docket ID No. EPA-R06-OAR-2006-0390. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov website is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30am and 4:30pm weekdays except for legal holidays. Contact the person listed in the FOR FURTHER INFORMATION CONTACT paragraph below or Mr. Bill Deese at (214) 665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Louisiana Department of Environmental Quality, 602 N. Fifth Street, Baton Rouge, LA 70802.

FOR FURTHER INFORMATION CONTACT: Mrs. Sandra Rennie at (214) 665-7367, Air Planning Section (6PD-L), Environmental Protection Agency, Region 6, 1445 Ross Avenue, Suite 700, Dallas, Texas 75202-2733, fax number 214-665-7263; e-mail address rennie.sandra@epa.gov.

SUPPLEMENTARY INFORMATION: Throughout this document wherever “we,” “us,” or “our” is used, we mean the EPA.

Table of Contents

I. Background

II. Analysis of VMT Plan

III. Final Action

IV. Statutory and Executive Order Reviews

I. Background

What Is a VMT SIP?

Section 182(d)(1)(A) of the Act requires states containing ozone nonattainment areas classified as severe, pursuant to section 181(a) of the Act, to adopt transportation control strategies and TCMs to offset increases in emissions resulting from growth in VMT or numbers of vehicle trips and to obtain reductions in motor vehicle emissions as necessary (in combination with other emission reduction requirements) to comply with the Act's Reasonable Further Progress milestones (section 182(b)(1) and (c)(2)(B)) and attainment demonstration requirements (section 182(c)(2)(A)). Our interpretation of section 182(d)(1)(A) is discussed in the April 16, 1992, General Preamble to Title I of the Act (57 FR 13498, the General Preamble). Section 182(d)(1)(A) of the Act requires that states submit the VMT Offset SIP by November 15, 1992, for any severe and above ozone nonattainment area. The VMT Offset SIP became a requirement for the Baton Rouge area due to EPA's reclassification of the area from serious to severe on April 24, 2003 (68 FR 20077).

How Is the VMT Offset Requirement Satisfied?

The EPA General Preamble (57 FR 13498, 13521-13523, April 16, 1992) explains how to demonstrate that the VMT requirement is satisfied. Sufficient measures must be adopted so projected motor vehicle volatile organic compound (VOC) emissions will stay beneath a ceiling level established through modeling of mandated transportation-related controls. When growth in VMT and vehicle trips would otherwise cause a motor vehicle emissions upturn, this upturn must be prevented by TCMs. If projected total motor vehicle emissions during the ozone season in one year are not higher than during the previous ozone season due to the control measures in the SIP, the VMT Offset requirement is satisfied. In order to make these projections, curves of vehicle emissions were modeled using mandated measures, along with VMT (please refer to Charts 1 and 2 in the Technical Support Document). Charts 1 and 2 each show significant declines in VOC emissions from on-road mobile sources during the 15-year period graphed for the offset analysis. The charts profile the effects of several factors that are affecting emissions simultaneously, including but not limited to: (a) The “fleet turnover” effect derived from implementation of Federal motor vehicle control program (National Low Emission Vehicle and Tier 2/low sulfur gasoline); (b) the nonattainment area's low enhanced vehicle inspection and maintenance (I/M) program, and; (c) either the sale and use of reformulated gasoline (Chart 1 only), or the continued sale and use of convention gasoline (Chart 2 only).¹ Also contributing to the decline in emissions growth is the fact that inventoried and projected VMT data has actually decreased slightly during the 1996-2005 time period by approximately two (2) percent.

¹ The use of Reformulated Gasoline (RFG) in the Baton Rouge nonattainment area was suspended in July 2004 by the U.S. Court of Appeals for the Fifth Circuit, and the Court transferred the case and motion to stay to the D.C. Circuit. This offset analysis includes analyses of both RFG and conventional gas fuels scenarios.

II. Analysis of VMT Plan

What Does Louisiana's Demonstration Show?

The March 22, 2005, VMT Offset Analysis SIP submittal includes a projection of the mobile source emissions and a VMT projection for Baton Rouge through 2005, the date by which the Baton Rouge area was to attain the 1-hour NAAQS for ozone. It contains a modeled scenario that includes the effects of reductions from the following mandated programs: federal motor vehicle control programs (Tier 2/Low Sulfur Gasoline Program Credits and National Low Emission Vehicle Credits), a low enhanced vehicle I/M program, and either reformulated gasoline or Federal 7.8 Reid Vapor Pressure gasoline (Charts 1 and 2, respectively).

Results of Analysis

The modeled curves satisfy the VMT Offset requirement as discussed in the General Preamble. Modeling at no time shows the emission estimates meeting or exceeding the lowest point in 2005. The VOC curves in these instances show that no true ceiling is established in this demonstration because there is no upward turn of the VOC curve to identify the lowest point. Because the curves do not turn upward, no TCMs are necessary to offset emissions from growth in VMT. Because there is no upturn in VOCs and no ceiling under which VOC emissions must remain, then no TCMs are required to keep emissions below any ceiling.

III. Final Action

EPA is approving Louisiana's VMT Offset Analysis SIP submitted by the State on March 22, 2005. The VMT Offset requirement is satisfied because projected total motor vehicle emissions during the ozone season in one year are not higher than during the ozone season the year before due to the control measures in the SIP. We determined that Louisiana has adequately demonstrated that emissions from growth in VMT and number of vehicle trips will not rise above an established ceiling during the required timeframe.

EPA is publishing this rule without prior proposal because we view this as a noncontroversial amendment and anticipate no adverse comments. However, in the proposed rules section of this Federal Register publication, we are publishing a separate document that will serve as the proposal to approve the SIP revision if adverse comments are received. This rule will be effective on January 22, 2007 without further notice unless we receive relevant adverse comment by December 21, 2006. If we receive adverse comments, we will publish a timely withdrawal in the Federal Register informing the public that the rule will not take effect. We will address all public comments in a subsequent final rule based on the proposed rule. We will not institute a second comment period on this action. Any parties interested in commenting must do so at this time. Please note that if we receive adverse comment on an amendment, paragraph, or section of this rule and if that provision may be severed from the remainder of the rule, we may adopt as final those provisions of the rule that are not the subject of an adverse comment.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 22, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Volatile organic compounds.

Dated: November 9, 2006.
Richard E. Greene,
Regional Administrator, Region 6.

40 CFR part 52 is amended as follows:

PART 52—[AMENDED]

1. The authority citation for part 52 continues to read as follows:

Authority: 42 U.S.C. 7401 et seq.

Subpart T—Louisiana

2. The table in § 52.970(e) entitled, “EPA Approved Louisiana Nonregulatory Provisions and Quasi-Regulatory Measures,” is amended by adding to the end of the table a new entry for “Baton Rouge Ozone Nonattainment Area Vehicle Miles Traveled Offset Analysis” to read as follows:

§ 52.970 Identification of plan.

* * * * *

(e) * * *

EPA Approved Louisiana Nonregulatory Provisions and Quasi-Regulatory Measures
Name of SIP provision | Applicable geographic or nonattainment area | State Submittal/ effective date | EPA approval date | Explanation
* * * * * * *
Vehicle Miles Traveled Offset Analysis | Baton Rouge Nonattainment Area | 03/22/05 | 11/21/06 | [Insert FR page number where document begins].

[FR Doc. E6-19641 Filed 11-20-06; 8:45 am]

BILLING CODE 6560-50-P